DEPARTMENT OF THE INTERIOR

National Park Service

[NPS-WASO-NRSS-EQD-11325; 1500-BASE-SZB]

Information Collection Activities: Timpanogos Cave National Monument Visitor and Community Survey

AGENCY: National Park Service (NPS), Interior.

ACTION: Notice; request for comments.

SUMMARY: We (National Park Service) will ask the Office of Management and Budget (OMB) to approve the Information Collection (IC) described below. This collection will consist of a survey and a focus group script that will be used to collect visitors and local community members' perceptions and evaluations of four management issues (1) Cave tour size and frequency; (2) ticketing procedure and fees; (3) concession service quality and selection; and (4) safety concerns on park trails. As required by the Paperwork Reduction Act of 1995, and as part of our continuing efforts to reduce paperwork and respondent burden, we invite the general public and other Federal agencies to take this opportunity to comment on this IC.

DATES: Please submit your comments on or before November 26, 2012.

ADDRESSES: Please send your comments to Phadrea Ponds, Information Collections Coordinator, National Park Service, 1201 Oakridge Drive, Fort Collins, CO 80525 (mail); or phadrea_ponds@nps.gov (email). Please reference Information Collection 1024-NEW, TICA in the subject line.

FOR FURTHER INFORMATION CONTACT: Jim Ireland, Superintendent at Jim_Ireland@nps.gov (email); or by mail at RR3, Box 200, American Fork, UT 84003.

I. Abstract

The National Park Service (NPS) will conduct a study at Timpanogos Cave National Monument. The study consists of a survey and a focus group using a random sample of visitors and residents of the communities surrounding the park. The collection will be used to understand visitors and local resident's perceptions and evaluations of the following management issues:

(1) Cave tour size and frequency.

(2) Ticketing process and fees.

(3) Concession service quality and selection.

(4) Safety concerns and user conflict while using park trails.

The information from this collection will provide NPS managers and planners with visitors and community members' perceptions of how each of the above management issue affects their overall quality of visit experience. Visitors' opinions about cave tour size and frequency as well as the ticketing process will be incorporated with ecological survey data to determine the most appropriate resource management strategy that balance between protection of the cave and visitor experience. Other information such safety concerns and concession services will be used in park management planning to determine appropriate management actions. Data collected will also be used in interpretive planning document to improve overall visit experience.

II. Data

OMB Control Number: 1024-NEW.

Title: Timpanogos Cave National Monument Visitor and Community Survey.

Type of Request: This is a new collection.

Affected Public: Park Visitors and Local Residents.

Respondent Obligation: Voluntary.

Frequency of Collection: One time.

Estimated Number of Annual Responses: 1,460.

| Estimate number of responses | Completion time (minutes) | Annual burden hours
Survey | 1,400 | 15 | 350
Focus group | 60 | 90 | 90
Total | 1,460 | 115 | 440

Annual Burden Hours: 440 hours. We expect to receive 1,460 annual responses (1,400 surveys and 60 focus group participants). We estimate an average of 15 minutes to complete a survey instrument (1,400 × 15 minutes = 350 hours), an average of 90 minutes per focus group session (60 × 90 minutes = 90 hours).

Estimated Reporting and Recordkeeping “Non-Hour Cost” Burden: None.

Public Disclosure Statement: The PRA (44 U.S.C. 3501, et seq.) provides that an agency may not conduct or sponsor a collection of information unless it displays a currently valid OMB control number and current expiration date.

III. Request for Comments

We invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: September 20, 2012.
Madonna L. Baucum,
Information Collection Clearance Officer, National Park Service.

[FR Doc. 2012-23671 Filed 9-25-12; 8:45 am]

BILLING CODE 4312-52-P